DEPARTMENT OF ENERGY

Federal Energy Regulatory Commission

[Docket No. RP01-101-000]

Panhandle Eastern Pipe Line Company; Notice of Filing Report

November 20, 2000.

Take notice that on November 15, 2000, Panhandle Eastern Pipe Line Company (Panhandle) tendered for filing its final reconciliation report in accordance with the February 12, 1997 Stipulation and Agreement in Docket No. RP96-260-000 (Settlement).

Panhandle states that pursuant to the Commission's September 30, 1999 order in Docket No. RP99-497-000, it established the Carryover Docket No. RP96-260-000 Settlement Volumetric Surcharge applicable to Rate Schedules IT and EIT, to be effective during the twelve month period commencing October 1, 1999. On August 31, 2000 Panhandle filed in Docket No. RP00-525-000 to suspend the Carryover Docket No. RP96-260-000 Settlement Volumetric Surcharge applicable to Rate Schedules IT and EIT effective October 1, 2000. The Commission accepted Panhandle's filing on September 27, 2000.

Panhandle further states copies of this filing are being served on all to the proceedings in Docket Nos. RP96-260-000 and RP00-525-000.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before November 28, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a0(1)(iii) and the instructions on the Commission's web site at http://www.ferc.fed.us/efi/doorbell.htm.

David P. Boergers,
Secretary.

[FR Doc. 00-30072 Filed 11-24-00; 8:45 am]

BILLING CODE 6717-01-M